DEPARTMENT OF AGRICULTURE

Commodity Credit Corporation

Payment Limitation and Payment Eligibility

AGENCY: Commodity Credit Corporation, USDA.

ACTION: Notice.

SUMMARY: As announced by this notice, the Commodity Credit Corporation (CCC) is implementing the provisions of the Food, Conservation, and Energy Act of 2008 (the 2008 Farm Bill) regarding payment limitation and payment eligibility provisions (including the average adjusted gross income limitation) for the 2008 crop, fiscal, or program year. The 2008 Farm Bill authorizes payment limitations and payment eligibility provisions that were previously authorized for preceding commodity and conservation programs under the Farm Security and Rural Investment Act of 2002 (the 2002 Farm Bill). As a result of this notice, CCC will be able to commence administration of payment limitation and payment eligibility provisions applicable to commodity and conservation programs for the 2008 crop, fiscal, or program year. Through a subsequent rule, CCC will implement payment limitation and payment eligibility provisions for 2009 through 2012.

DATES: Effective Date: July 11, 2008.

FOR FURTHER INFORMATION CONTACT: Salomon Ramirez, Director, Production, Emergencies and Compliance Division, Farm Service Agency, USDA, STOP 0517, 1400 Independence Avenue, SW., Washington, DC 20250-0517; telephone: (202) 720-7641; e-mail: salomon.ramirez@wdc.usda.gov. Persons with disabilities who require alternative means for communication (Braille, large print, audiotape, etc.) should contact the USDA Target Center at (202) 720-2600 (voice and TDD).

SUPPLEMENTARY INFORMATION: Currently, the regulations in 7 CFR part 1400, Payment Limitation and Payment Eligibility, cover payment limitation and payment eligibility applicable to most commodity and conservation programs administered by CCC, including the following:

• Direct and Counter-Cyclical Program (DCP) for covered commodities and peanuts governed by 7 CFR part 1412, Direct and Counter-Cyclical Program,

• Programs under which a producer realizes a gain from repaying a marketing assistance loan at a lower rate than the commodity's original loan rate and any program that authorizes a loan deficiency payment for a commodity; specifically, programs governed by either 7 CFR part 1421, Grains and Similarly Handled Commodities—Marketing Assistance Loans and Loan Deficiency Payments for the 2002 through 2007 Crop Years, or 7 CFR part 1427, Cotton, and

• The Conservation Reserve Program, as governed by 7 CFR part 1410, Conservation Reserve Program.

As explained in this notice, CCC will operate the 2008 payment limitation and payment eligibility provisions as required by the 2008 Farm Bill (Pub. L. 110-246) using the standards of 7 CFR part 1400, as they applied to the 2007 crops or 2007 crop year.

Sections 1603(h) and 1604(b) of the 2008 Farm Bill authorize a continuation, with respect to certain commodity programs for the 2008 crop, fiscal, or fiscal year, as appropriate, of the payment limitation and payment eligibility provisions (including the average adjusted gross income limitation), as authorized by sections 1001, 1001A, 1001B, and 1001D of the Food Security Act of 1985 (7 U.S.C. 1308, 1308-1, 1308-2, and 1308-3a), as in effect on September 30, 2007 and set forth in regulations at 7 CFR part 1400.

Section 2903 of the 2008 Farm Bill authorizes the continuation of payment limitations with respect to new Conservation Reserve Program (CRP) contracts as covered by the Food Security Act (16 U.S.C. 3831-3835) through September 30, 2008, using the same provisions of law applicable to the program or activity as existed on the day before the date of enactment of the 2008 Farm Bill and set forth in regulations at 7 CFR part 1400.

This notice announces that with respect to the DCP, marketing assistance loans, loan deficiency payments under Title I of the 2008 Farm Bill, and CRP under Title II of the 2008 Farm Bill CCC will implement payment limitation and payment eligibility provisions for the 2008 crop, fiscal, or program year based on the current regulation in 7 CFR part 1400, as it applied to the 2007 crop or 2007 crop year. However, CRP contracts will be governed by those payment limitation provisions in place when the contracts were executed. For other matters and for 2009 through 2012 crops, CCC plans to amend 7 CFR part 1400 to reflect changes required by the 2008 Farm Bill.

Environmental Review

FSA has determined that this change would not constitute a major Federal action that would significantly affect the quality of the human environment. Therefore, in accordance with the 7 CFR part 799, Environmental Quality and Related Environmental Concerns—Compliance with the National Environmental Policy Act, implementing the regulations of the Council on Environmental Quality (40 CFR parts 1500-1508), no environmental assessment or environmental impact statement will be prepared.

Signed at Washington, DC, on June 25, 2008.
Glen L. Keppy,
Acting Executive Vice President, Commodity Credit Corporation.

[FR Doc. E8-16007 Filed 7-11-08; 8:45 am]

BILLING CODE 3410-05-P